DEPARTMENT OF ENERGY

Federal Energy Regulatory Commission

[Docket Nos. RM16-17-001; ER11-3615-000]

Data Collection for Analytics and Surveillance and Market-Based Rate Purposes; Fred Meyer Stores, Inc.; Notice of Revocation of Market-Based Rate Authority and Termination of Electric Market-Based Rate Tariff

On September 22, 2022, the Commission issued an order announcing its intent to revoke the market-based rate authority of the seller ¹ captioned above that had failed to file its baseline submission to the market-based rate relational database,² as required by Order No. 860.³ The Commission directed that Fred Meyer Stores, Inc. (Fred Meyer Stores) file the required baseline submission within 15 days of the date of issuance of the September 22 Order or face revocation of its authority to sell power at market-based rates and termination of its electric market-based rate tariff.⁴ On October 14, 2022, Fred Meyer Stores was granted an extension of time to satisfy the Commission's requirements in Order No. 860, and the directives of the September 22 Order, up to and including October 21, 2022.⁵ On October 28, 2022, Fred Meyer Stores was granted an additional extension of time to satisfy the Commission's requirements and directives up to and including November 21, 2022.⁶

¹ A “seller” is defined as any person that has authorization to or seeks authorization to engage in sales for resale of electric energy, capacity or ancillary services at market-based rates under section 205 of the Federal Power Act (FPA). 18 CFR 35.36(a)(1); 16 U.S.C. 824d. Each seller is a public utility under section 205 of the FPA. 16 U.S.C. 824.

² Data Collection for Analytics & Surveillance & Mkt.-Based Rate Purposes, 180 FERC ¶ 61,170 (2022) (September 22 Order).

³ Data Collection for Analytics & Surveillance & Mkt.-Based Rate Purposes, Order No. 860, 168 FERC ¶ 61,039 (2019), order on reh'g, Order No. 860-A, 170 FERC ¶ 61,129 (2020).

⁴ September 22 Order, 180 FERC ¶ 61,170 at Ordering Paragraph A.

⁵ Data Collection for Analytics & Surveillance & Mkt.-Based Rate Purposes, Notice of Extension of Time, Docket No. RM16-17-000 (Oct. 14, 2022) (October 14 Extension).

⁶ Data Collection for Analytics & Surveillance & Mkt.-Based Rate Purposes, Notice of Extension of Time, Docket No. RM16-17-000 (Oct. 28, 2022) (October 28 Extension).

The time period for compliance with the September 22 Order, the October 14 Extension, and the October 28 Extension has elapsed. Fred Meyer Stores failed to file its delinquent baseline submission to the market-based rate relational database. The Commission hereby revokes, effective as of the date of issuance of this notice, the market-based rate authority and terminates the electric market-based rate tariff of Fred Meyer Stores. This revocation does not preclude Fred Meyer Stores from re-applying for market-based rate authority.

Dated: March 28, 2023.
Kimberly D. Bose,
Secretary.

[FR Doc. 2023-06859 Filed 4-3-23; 8:45 am]

BILLING CODE 6717-01-P